DEPARTMENT OF THE INTERIOR

National Park Service

[2253-665]

Notice of Inventory Completion: Bishop Museum, Honolulu, HI

AGENCY: National Park Service, Interior.

ACTION: Notice.

SUMMARY: The Bishop Museum has completed an inventory of human remains in consultation with the appropriate Indian tribe, and has determined that there is a cultural affiliation between the human remains and a present-day Indian tribe. Representatives of any Indian tribe that believes itself to be culturally affiliated with the human remains may contact the Bishop Museum. Repatriation of the human remains to the tribe stated below may occur if no additional claimants come forward.

DATES: Representatives of any Indian tribe that believes it has a cultural affiliation with the human remains should contact the Bishop Museum at the address below by March 28, 2012.

ADDRESSES: Betty Lou Kam, Vice President, Cultural Collections, Bishop Museum, 1525 Bernice St., Honolulu, HI 96817, telephone (808) 848-4144.

SUPPLEMENTARY INFORMATION: Notice is here given in accordance with the Native American Graves Protection and Repatriation Act (NAGPRA), 25 U.S.C. 3003, of the completion of an inventory of human remains in the possession of the Bishop Museum. The human remains were removed from western North America, most likely from north-central California.

This notice is published as part of the National Park Service's administrative responsibilities under NAGPRA, 25 U.S.C. 3003(d)(3). The determinations in this notice are the sole responsibility of the museum, institution or Federal agency that has control of the Native American human remains. The National Park Service is not responsible for the determinations in this notice.

Consultation

A detailed assessment of the human remains was made by Bishop Museum professional staff in consultation with representatives of the Santa Rosa Indian Community of the Santa Rosa Rancheria, California (Tachi Yokut Tribe). Correspondence in support of the assessment also was provided by the Picayune Rancheria of Chukchansi Indians of California. In addition, the Bishop Museum contacted the Table Mountain Rancheria of California.

History and Description of the Remains

In June of 1966, human remains representing, at minimum, two individuals were given to Dr. Alan Zeigler by Dr. Grover Krantz, while Dr. Zeigler was studying at the University of California, Berkeley. No information is provided as to the origins of the remains, other than a note in Zeigler's 1966 catalog listing the location as western North America. However, at the time, all of Dr. Zeigler's work focused around the Alameda County and Fresno areas in California. Presumably, these human remains were given to Zeigler to complement his research collection. Remains representing a minimum of two individuals were accompanied by a tag that reads, “Sex? Imm. (2863 A.C. Zeigler) Coll? Rec'd from G. Krantz Western North America—No other data. (No meas's or wt.) Rec'd Jun-, 1966. Composite part, skeleton only, homo sapiens.” No known individuals were identified. No associated funerary objects are present.

During his time at the University of California, Berkeley, much of Dr. Zeigler's collecting was focused on the Alameda, Fresno and Northern/Central California areas. In 1968, Dr. Zeigler published “Quasi-agriculture in North-central California and its effect on aboriginal social structure” in Kroeber Anthropological Society Papers, No. 38, pp. 52-67. Thus, the specimens given to Dr. Zeigler by Dr. Krantz probably were from these regions and were given to Dr. Zeigler in support of his studies. The geographic locations described lie within Yokut territories, which run from the San Pablo Bay shores to Tahachapi, and encompass Dr. Zeigler's work area, most notably in the East Bay area.

Determinations Made by the Bishop Museum

Officials of the Bishop Museum have determined that:

• Pursuant to 25 U.S.C. 3001(9), the human remains described in this notice represent the physical remains of two individuals of Native American ancestry.

• Pursuant to 25 U.S.C. 3001(2), there is a relationship of shared group identity that can be reasonably traced between the Native American human remains and the Santa Rosa Indian Community of the Santa Rosa Rancheria, California (Tachi Yokut Tribe).

Additional Requestors and Disposition

Representatives of any Indian tribe that believes itself to be culturally affiliated with the human remains should contact Betty Lou Kam, Vice-President, Cultural Resources, Bishop Museum, 1525 Bernice St., Honolulu, HI 96817, telephone (808) 848-4144, before March 28, 2012. Repatriation of the human remains to the Santa Rosa Indian Community of the Santa Rosa Rancheria, California (Tachi Yokut Tribe) may proceed after that date if no additional claimants come forward.

The Bishop Museum is responsible for notifying the Santa Rosa Indian Community of the Santa Rosa Rancheria, California (Tachi Yokut Tribe) that this notice has been published.

Dated: February 22, 2012.
Sherry Hutt,
Manager, National NAGPRA Program.

[FR Doc. 2012-4524 Filed 2-24-12; 8:45 am]

BILLING CODE 4312-50-P